DEPARTMENT OF THE INTERIOR

Bureau of Land Management

[LLNVL02000 L14300000.EU0000 241A; N-89521; 12-08807; MO #4500069451; TAS: 14X1109]

Notice of Realty Action: Proposed Competitive Sale (N-89521) of Public Land in White Pine County, NV

AGENCY: Bureau of Land Management, Interior.

ACTION: Notice.

SUMMARY: The Bureau of Land Management (BLM) proposes to sell a 40-acre parcel of public land in White Pine County, NV by competitive sale. Bidding on the subject parcel will begin at not less than the appraised fair market value (FMV) of $81,580. The BLM is proposing to use the competitive sale procedures consistent with the Federal Land Policy and Management Act of 1976 (FLPMA), as amended, and the applicable BLM land sale regulations.

DATES: Interested persons may submit written comments to the BLM at the address below. The BLM must receive the comments on or before March 2, 2015. The oral auction will be held on April 1, 2015, at 10:00 a.m., Pacific Standard Time at the Ely District Office, 702 North Industrial Way, Ely, NV 89301.

ADDRESSES: Bureau of Land Management, Schell Field Office, HC 33 Box 33500, Ely, NV 89301.

FOR FURTHER INFORMATION CONTACT: Paul Podborny, Schell Field Manager, at Ely District Office, 702 N. Industrial Way, Ely, NV 89301, or by telephone at 775-289-1800, or by email at ppodborny@blm.gov; or Jill A. Moore, Egan Field Manager, by telephone at 775-289-1800, or by email at jmoore@blm.gov, or email at http://www.blm.gov/nv/st/en/fo/ely_field_office.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will conduct a competitive sale (N-89521) for a 40-acre parcel of public land located north of Ely, NV, 1.3 miles east of U.S. Highway 93, described as follows:

Mount Diablo Meridian, Nevada

T. 16 N., R. 64 E.,

Sec. 6, E½NW¼SW¼, E½SW¼SW¼.

The area described contains 40.00 acres.

Upon publication of this Notice in the Federal Register, the described land will be segregated from all forms of appropriation under the public land laws, including the mining law, except for the sale provisions of FLPMA. Upon publication of this Notice of Realty Action and until completion of the sale, the BLM will no longer accept land use applications affecting the identified public lands, except applications for the amendment of previously filed right-of-way (ROW) applications or existing authorizations to increase the term of the grants in accordance with 43 CFR 2807.15 and 2886.15. The segregated effect will terminate upon issuance of a patent, publication in the Federal Register of a termination of the segregation, or on January 16, 2017, unless extended by the BLM State Director, Nevada, in accordance with 43 CFR 2711.1-2(d) prior to the termination date.

This tract of public land meets the disposal criteria consistent with Section 203 of FLPMA, as amended, and the BLM Ely District Record of Decision and Approved Resource Management Plan (ROD/RMP) dated, August 20, 2008. The parcel is identified as suitable for disposal and complies with Public Law 109-432, the Tax Relief and Health Care Act of 2006, Title III—White Pine County Conservation, Recreation and Development Act (WPCCRDA), enacted on December 20, 2006. The proposed action conforms to the ROD/RMP as referenced in the Lands and Realty objectives LR-11, page 67; and listed in Appendix B, page B-4. All supporting documents to include a map and an appraisal report for the proposed sale are available for review at the BLM, Ely District Office. A Determination of National Environmental Policy Act Adequacy document number NV-L020-2011-0007 was completed on April 12, 2011.

No significant resource value will be affected by the disposal of this parcel. This parcel is not required for any Federal purposes, and its disposal is in the public interest and meets the intent of the WPCCRDA.

In accordance with 43 CFR 2711.3-1 and 2710.0-6(c)(3)(i), a competitive sale of public land may be used where there would be a number of interested parties bidding for the lands and (A) wherever in the judgment of the authorized officer the lands are accessible and usable regardless of adjoining land ownership and (B) Wherever the lands are within a developing or urbanizing area and land values are increasing due to their location and interest on the competitive market. The BLM examined the parcel (vacant land) and found it to be consistent with and suitable for disposal using competitive sale procedures.

Competitive Sale Procedures

Sale procedures: Registration for oral bidding will begin at 1:00 p.m. Pacific Time at the Ely District Office, 702 North Industrial Way, Ely, NV 89301, on the day of the sale. There will be no prior registration before the sale date. The public sale auction will be through oral bids. The high bidder will be declared the successful bidder in accordance with 43 CFR 2711.3-1(d), competitive bidding procedures, where the highest qualifying bid received shall be publicly declared by the authorized officer. Acceptance or rejection of any offer(s) to purchase will be in accordance with the procedures set forth in 43 CFR 2711.3-1 (f) and (g).

Bid Deposits and Payment

A high bidder will be declared. In accordance with 2711.3-1(d), the person declared the highest bidder should submit their bid payment in the form of a bank draft, cashier's check, certified check, or U.S. postal money order, or any combination thereof, and made payable in U.S. dollars to the Department of the Interior—Bureau of Land Management. The high bidder must submit a deposit of no less that 20 percent of the successful bid by 4:30 p.m. Pacific Time on the day of the sale in the form of a bank draft, cashier's check, certified check, or U.S. postal money made payable in U.S. dollars to the “Department of the Interior- Bureau of Land Management.” Funds must be delivered no later than 4:30 p.m. Pacific Time on the day of the sale to the BLM, Collection Officers at BLM, Ely District Office, 702 North Industrial Way, Ely, NV 89301. Failure to submit the deposit following the close of the sale under 43 CFR 2711.3-1(d) will result in forfeiture of the bid deposit and the cancellation of the sale. No contractual or other rights against the United States may accrue until BLM officially accepts the offer to purchase and the full bid price is paid.

Full payment must be made within 180 days from the date the sale offer is received. Failure to pay the full purchase price within the allotted time will result in forfeiture of the bid deposit in accordance with 43 CFR 2711.3-1(d). No exceptions will be made. The BLM cannot accept the full price at any time following the expiration of the 180th day after the sale offer. Arrangements for electronic fund transfer to BLM shall be made a minimum of two weeks prior to final payment. Failure to meet conditions established for this sale will void the sale and any funds received will be forfeited.

All mineral interests for the parcel will be reserved to the United States. A Mineral Potential Report was completed on May 24, 2011.

The public land will not be offered for sale prior to 60 days from the date this notice is published in the Federal Register. The patent, if issued, would be subject to the following terms, conditions, and reservations:

1. A reservation for any right-of-way thereon for ditches or canals constructed by the authority of the United States, Reservation in Patent Right Of Way for Ditches or Canals Act of August 30, 1890 (43 U.S.C. 945);

2. A reservation for all minerals deposits in the land so patented, and to it or persons authorized by it, the right to prospect for, mine, and remove such deposits from the same under applicable law and such regulations as the Secretary of the Interior may prescribe shall be reserved to the United States;

3. The parcel will be subject to all valid existing rights; and

4. By accepting this patent, the purchasers/patentees agree to indemnify, defend, and hold the United States harmless from any costs, damages, claims, causes of action, penalties, fines, liabilities, and judgments of any kind or nature arising from the past, present, and future acts or omissions of the patentee, its employees, agents, contractors, or lessees, or any third-party, arising out of or in connection with the patentee's use, occupancy, or operations on the patented real property. This indemnification and hold harmless agreement includes, but is not limited to, acts and omissions of the patentee, its employees, agents, contractors, or lessees, or any third party, arising out of or in connection with the use and/or occupancy of the patented real property resulting in: (a) Violations of Federal, State, and local laws and regulations that are now or may in the future become, applicable to the real property; (b) Judgments, claims or demands of any kind assessed against the United States; (c) Costs, expenses, or damages of any kind incurred by the United States; (d) Releases or threatened releases of solid or hazardous waste(s) and/or hazardous substances(s), as defined by Federal or State environmental laws, off, on, into or under land, property and other interests of the United States; (e) Other activities by which solid waste or hazardous substances or waste, as defined by Federal and State environmental laws are generated, released, stored, used or otherwise disposed of on the patented real property, and any cleanup response, remedial action or other actions related in any manner to said solid or hazardous substances or wastes; or (f) Natural resource damages as defined by Federal and State law. This covenant shall be construed as running with the patented real property, and may be enforced by the United States in a court of competent jurisdiction.

No representation, warranty, or covenant of any kind, express or implied, is given or made by the United States, its officers or employees, as to title, access to or from the above described parcel of land, the title of the land, whether or to what extent the land may be developed, its physical condition, or past, present or future uses, and the conveyance of any such parcel will not be on a contingency basis. The buyer is responsible to be aware of all applicable Federal, State and local government policies and regulations that would affect the subject lands. It is also the buyer's responsibility to be aware of existing or prospective uses of nearby properties. Lands without access from a public road or highway will be conveyed as such, and future access acquisition will be the responsibility of the buyer.

The bidders must demonstrate to the authorized officer that they meet the requirements of 43 CFR 2711.2 to hold real property in the United States. Failure to submit documentation to the BLM within 30 days from receipt of the high bidder letter shall result in the cancellation of the bid. The parcel may be subject to land use applications received prior to publication of this notice if processing the application would have no adverse effect on the marketability of title, or the FMV of the parcel. Encumbrances of record, appearing in the case file for this sale, is available for review during business hours, 7:30 a.m. to 4:30 p.m., Pacific Time, Monday through Friday, at the BLM, Ely District Office, except during federally recognized holidays.

The parcel is subject to limitations prescribed by law and regulation, and prior to patent issuance, a holder of any ROW within the parcel may be given the opportunity to amend the ROW for conversion to a new term, including perpetuity, if applicable, or to an easement.

The BLM will notify valid existing ROW holders of their ability to convert their compliant rights-of-way to perpetual rights-of-way or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the BLM, Ely District Office prior to 30 days before the scheduled closing date. There are no exceptions.

All name changes and supporting documentation must be received at the BLM, Ely District Office 30 days from the date on the high bidder letter by 4:30 p.m. Pacific Time. Name changes will not be accepted after that date. To submit a name change, the high bidder must submit the name change on the Certificate of Eligibility form to the BLM, Ely District Office in writing. Certificate of Eligibility forms are available at the BLM, Ely District Office and at the BLM Web site at: http://www.blm.gov/nv/st/en/fo/ely_field_office.html.

The BLM will not sign any documents related to 1031 Exchange transactions. The timing for completion of the exchange is the bidder's responsibility in accordance with Internal Revenue Service regulations. The BLM is not a party to any 1031 Exchange.

In accordance with 43 CFR 2711.3-1(f), the BLM may accept or reject any or all offers to purchase, or withdraw any parcel of land or interest therein from sale, if, in the opinion of the BLM authorized officer, consummation of the sale would be inconsistent with any law, or for other reasons.

In order to determine the FMV through appraisal, certain extraordinary assumptions and hypothetical conditions are made concerning the attributes and limitations of the land and potential effects of local regulations and policies on potential future land uses. Through publication of this Notice, the BLM advises that these assumptions may not be endorsed or approved by units of local Government.

Before including your address, phone number, email address, or other personal identifying information in your comment, you should be aware that your entire comment including your personal identifying information may be made publicly available at any time. While you can ask us in your comment to withhold your personal identifying information from public review, we cannot guarantee that we will be able to do so.

Any comments regarding the proposed sale will be reviewed by the BLM Nevada State Director, who may sustain, vacate, or modify this realty action. In the absence of any adverse comments, this realty action will become the final determination of the Department of the Interior.

Authority: 43 CFR 2711.1-2(a) and (c).

Paul E. Podborny,
Field Manager, Schell Field Office.

[FR Doc. 2015-00350 Filed 1-13-15; 8:45 am]

BILLING CODE 4310-HC-P